DEPARTMENT OF HOMELAND SECURITY

Federal Emergency Management Agency

[Docket ID: FEMA-2020-0024; OMB No. 1660-0149]

Agency Information Collection Activities: Proposed Collection; Comment Request; Requests for Special Priorities Assistance

AGENCY: Federal Emergency Management Agency, DHS.

ACTION: 60-Day notice and request for comments.

SUMMARY: The Federal Emergency Management Agency, as part of its continuing effort to reduce paperwork and respondent burden, invites the general public to take this opportunity to comment on a revision of a currently approved information collection. In accordance with the Paperwork Reduction Act of 1995, this notice seeks comments concerning FEMA's Request for Special Priorities Assistance, FEMA Form 009-0-142.

DATES: Comments must be submitted on or before October 2, 2020.

ADDRESSES: Submit comments at www.regulations.gov under Docket ID FEMA-2020-0024. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Office of Policy and Program Analysis, Marc Geier, Federal Emergency Management Agency, 500 C Street SW, Washington, DC 20472, (telephone) 202-924-0196, or (email) FEMA-DPA@fema.dhs.gov. You may contact the Information Management Division for copies of the proposed collection of information at email address: FEMA-Information-Collections-Management@fema.dhs.gov.

SUPPLEMENTARY INFORMATION: This information is necessary to support the President's priorities and allocations authority under Title I of the Defense Production Act of 1950 (DPA), as amended (50 U.S.C. 4501, et seq.) as implemented by the Emergency Management Priorities and Allocations System (EMPAS) regulation (44 CFR part 333) which was added by FEMA's May 13, 2020 Emergency Management Priorities and Allocations System Interim Final Rule (RIN 1660-AB04). The purpose of this authority is to ensure the timely delivery of products, materials, and services to meet current national defense requirements. The definition of “national defense” in Section 702(14) of the DPA provides that this term includes “homeland security,” “emergency preparedness activities” conducted pursuant to Section 602 of the Robert T. Stafford Disaster Relief and Emergency Assistance Act (Stafford Act) (42 U.S.C. 5195a), and “critical infrastructure protection and restoration.”

Collection of Information

Title: Requests for Special Priorities Assistance.

Type of Information Collection: Revision of a currently approved information collection.

OMB Number: 1660-0149.

FEMA Form: FEMA Form 009-0-142, Requests for Special Priorities Assistance.

Abstract: Contractors may request Special Priorities Assistance (SPA) when placing rated orders with suppliers, to obtain timely delivery of products, materials or services from suppliers, or for any other reason under the EMPAS, in support of approved national programs. Additionally, when responding to COVID-19, State and local governments, owners, operators, and the private sector may request SPA. FEMA Form 009-0-142 is used to apply for such assistance.

Affected Public: For-Profit Business; Private Non-Profit; State, local or Tribal government.

Estimated Number of Respondents: 20.

Estimated Number of Responses: 20.

Estimated Total Annual Burden Hours: 5.

Estimated Total Annual Respondent Cost: $288.

Estimated Respondents' Operation and Maintenance Costs: None.

Estimated Respondents' Capital and Start-Up Costs: None.

Estimated Total Annual Cost to the Federal Government: $52,857.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2020-16837 Filed 7-31-20; 8:45 am]

BILLING CODE 9111-19-P